DEPARTMENT OF HOMELAND SECURITY

Federal Emergency Management Agency

[Docket ID FEMA-2020-0002; Internal Agency Docket No. FEMA-B-2054]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management,Department of Homeland Security,Federal Emergency Management Agency.

State and county | Location and case No. | Chief executive officer of community | Community map repository | Online location of letter of map revision | Date of modification | Community No.
Arizona: Maricopa | Town of Gilbert (20-09-0521P). | The Honorable Jenn Daniels, Mayor, Town of Gilbert, 50 East Civic Center Drive, Gilbert, AZ 85296. | Development Services Department, 90 East Civic Center Drive, Gilbert, AZ 85296. | https://msc.fema.gov/portal/advanceSearch. | Nov. 13, 2020 | 040044
Arkansas: Washington | City of Fayetteville (19-06-3968P). | The Honorable Lioneld Jordan, Mayor, City of Fayetteville, 113 West Mountain Street, Fayetteville, AR 72701. | City Hall, 113 West Mountain Street, Fayetteville, AR 72701. | https://msc.fema.gov/portal/advanceSearch. | Dec. 7, 2020 | 050216
Colorado: Jefferson | City of Lakewood (20-08-0105P). | The Honorable Adam Paul, Mayor, City of Lakewood, 480 South Allison Parkway, Lakewood, CO 80226. | City Hall, 480 South Allison Parkway, Lakewood, CO 80226. | https://msc.fema.gov/portal/advanceSearch. | Nov. 20, 2020 | 085075
Delaware: Sussex | Town of South Bethany (20-03-1169P). | The Honorable Tim Saxton, Mayor, Town of South Bethany, 402 Evergreen Road, South Bethany, DE 19930. | Town Hall, 402 Evergreen Road, South Bethany, DE 19930. | https://msc.fema.gov/portal/advanceSearch. | Dec. 18, 2020 | 100051
Florida:
Broward | City of Coral Springs (20-04-1557P). | Mr. Frank Babinec, Manager, City of Coral Springs, 9500 West Sample Road, Coral Springs, FL 33065. | City Hall, 9500 West Sample Road, Coral Springs, FL 33065. | https://msc.fema.gov/portal/advanceSearch. | Nov. 30, 2020 | 120033
Miami-Dade | City of Florida City (19-04-6515P). | The Honorable Otis T. Wallace, Mayor, City of Florida City, 404 West Palm Drive, Florida City, FL 33034. | Building and Zoning Department, 404 West Palm Drive, Florida City, FL 33034. | https://msc.fema.gov/portal/advanceSearch. | Nov. 18, 2020 | 120641
Miami-Dade | City of Homestead (19-04-6515P). | The Honorable Steven D. Losner, Mayor, City of Homestead, 100 Civic Court, Homestead, FL 33030. | Development Services Department, 100 Civic Court, Homestead, FL 33030. | https://msc.fema.gov/portal/advanceSearch. | Nov. 18, 2020 | 120645
Miami-Dade | City of Sunny Isles Beach (20-04-4036P). | The Honorable George “Bud” Scholl, Mayor, City of Sunny Isles Beach, 18070 Collins Avenue, Sunny Isles Beach, FL 33160. | Building Department, 18070 Collins Avenue, Sunny Isles Beach, FL 33160. | https://msc.fema.gov/portal/advanceSearch. | Nov. 19, 2020 | 120688
Miami-Dade | Unincorporated areas of Miami-Dade County (19-04-6515P). | The Honorable Carlos A. Gimenez, Mayor, Miami-Dade County, 111 Northwest 1st Street, 29th Floor, Miami, FL 33128. | Miami-Dade County Environmental Resources Management Department, 701 Northwest 1st Court, Suite 500, Miami, FL 33136. | https://msc.fema.gov/portal/advanceSearch. | Nov. 18, 2020 | 120635
Monroe | Unincorporated areas of Monroe County (20-04-1572P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Nov. 30, 2020 | 125129
Monroe | Unincorporated areas of Monroe County (20-04-3363P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Nov. 30, 2020 | 125129
Monroe | Unincorporated areas of Monroe County (20-04-3364P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Dec. 7, 2020 | 125129
Pasco | Unincorporated areas of Pasco County (20-04-2795P). | The Honorable Mike Moore, Chairman, Pasco County Board of Commissioners, 8731 Citizens Drive, New Port Richey, FL 34654. | Pasco County Development Review Division, 7530 Little Road, New Port Richey, FL 34654. | https://msc.fema.gov/portal/advanceSearch. | Dec. 17, 2020 | 120230
Sarasota | Unincorporated areas of Sarasota County (20-04-3149P). | The Honorable Michael A. Moran, Chairman, Sarasota County Board of Commissioners, 1660 Ringling Boulevard, Sarasota, F4034236. | Sarasota County Planning and Development Services Department, 1001 Sarasota Center Boulevard, Sarasota, FL34240. | https://msc.fema.gov/portal/advanceSearch. | Dec. 3, 2020 | 125144
Seminole | Unincorporated areas of Seminole County (20-04-1621P). | The Honorable Jay Zembower, Chairman, Seminole County Board of Commissioners, 1101 East 1st Street, Sanford, FL 32771. | Seminole County Services Building, 1101 East 1st Street, Sanford, FL 32771. | https://msc.fema.gov/portal/advanceSearch. | Dec. 16, 2020 | 120289
Georgia: Gwinnett | City of Duluth (20-04-1631P). | Mr. James Riker, Manager, City of Duluth, 3167 Main Street, Duluth, GA 30096. | Department of Planning and Development, 3167 Main Street, Duluth, GA 30096. | https://msc.fema.gov/portal/advanceSearch. | Nov. 19, 2020 | 130098
Mississippi: Panola | Unincorporated areas of Panola County (20-04-1139P). | The Honorable Cole Flint, President, Panola County Board of Supervisors, 151 Public Square, Batesville, MS 38606. | Panola County Land Development Commission, 245 Eureka Street, Batesville, MS 38606. | https://msc.fema.gov/portal/advanceSearch. | Dec. 3, 2020 | 280125
North Carolina: Columbus | Town of Sandyfield (20-04-3325P). | The Honorable Garry Keaton, Mayor, Town of Sandyfield, 1795 Woodyard Road, Riegelwood, NC 28546. | Town Hall, 1795 Woodyard Road, Riegelwood, NC 28546. | https://msc.fema.gov/portal/advanceSearch. | Dec. 7, 2020 | 370644
Pennsylvania: Northampton | Township of Lower Nazareth (20-03-0708P). | The Honorable James S. Pennington, Chairman, Township of Lower Nazareth, Board of Supervisors, 623 Municipal Drive, Nazareth, PA 18064. | Planning and Zoning Department, 623 Municipal Drive, Nazareth, PA 18064. | https://msc.fema.gov/portal/advanceSearch. | Dec. 14, 2020 | 422253
Texas:
Collin | City of Plano (20-06-0790P). | The Honorable Harry LaRosiliere, Mayor, City of Plano, 1520 K Avenue, Suite 300, Plano, TX 75074. | Department of Engineering, 1520 K Avenue, Suite 250, Plano, TX 75074. | https://msc.fema.gov/portal/advanceSearch. | Dec. 14, 2020 | 480140
Dallas | City of Dallas (20-06-1597P). | The Honorable Eric Johnson, Mayor, City of Dallas, 1500 Marilla Street, Suite 5EN, Dallas, TX 75201. | Water Utilities Department, 312 East Jefferson Boulevard, Room 307, Dallas, TX 75203. | https://msc.fema.gov/portal/advanceSearch. | Dec. 7, 2020 | 480171
Gillespie | City of Fredericksburg (19-06-2756P). | The Honorable Gary Neffendorf, Mayor, City of Fredericksburg, 126 West Main Street, Fredericksburg, TX 78624. | City Hall, 126 West Main Street, Fredericksburg, TX 78624. | https://msc.fema.gov/portal/advanceSearch. | Nov. 19, 2020 | 480252
Hood | Unincorporated areas of Hood County (20-06-2645P). | The Honorable Ron Massing III, Hood County Judge, 100 East Pearl Street, Granbury, TX 76048. | Hood County Development and Compliance Department, 1402 West Pearl Street, Suite 2, Granbury, TX 76048. | https://msc.fema.gov/portal/advanceSearch. | Dec. 3, 2020 | 480356
Tarrant | City of Fort Worth (20-06-1450P). | The Honorable Betsy Price, Mayor, City of Fort Worth, 200 Texas Street, Fort Worth, TX 76102. | Transportation and Public Works Department, Engineering Vault, 200 Texas Street, Fort Worth, TX 76102. | https://msc.fema.gov/portal/advanceSearch. | Dec. 14, 2020 | 480596
Tarrant | City of Haltom City (20-06-1525P). | The Honorable An Truong, Mayor, City of Haltom City, 5024 Broadway Avenue, Haltom City, TX 76117. | Public Works Services Department, 5024 Broadway Avenue, Haltom City, TX 76117. | https://msc.fema.gov/portal/advanceSearch. | Dec. 14, 2020 | 480599
Utah: Cache | City of Hyrum (20-08-0206P). | The Honorable Stephanie Miller, Mayor, City of Hyrum, 60 West Main Street, Hyrum, UT 84319. | City Hall, 60 West Main Street, Hyrum, UT 84319. | https://msc.fema.gov/portal/advanceSearch. | Dec. 2, 2020 | 490017
Virginia:
Independent City | City of Newport News (20-03-0336P). | The Honorable McKinley L. Price, Mayor, City of Newport News, 2400 Washington Avenue, 10th Floor, Newport News, VA 23607. | City Hall, 2400 Washington Avenue, Newport News, VA 23607. | https://msc.fema.gov/portal/advanceSearch. | Dec. 22, 2020 | 510103
Prince William | City of Manassas (20-03-0476P). | The Honorable Harry J. Parrish, II, Mayor, City of Manassas, 9027 Center Street, Suite 101, Manassas, VA 20110. | Public Works Department, 8500 Public Works Drive, Manassas, VA 20110. | https://msc.fema.gov/portal/advanceSearch. | Dec. 17, 2020 | 510122
Prince William | Unincorporated areas of Prince William County, (20-03-0476P). | Mr. Christopher E. Martino, Prince William County Executive, 1 County Complex Court, Prince William, VA 22192. | Prince William County Department of Public Works, Watershed Management Branch, 5 County Complex Court, Prince William, VA 22192. | https://msc.fema.gov/portal/advanceSearch. | Dec. 17, 2020 | 510119
York | Unincorporated areas of York County (20-03-0336P). | Mr. Neil A. Morgan, York County Administrator, P.O. Box 532, Yorktown, VA 23692. | York County Department of Public Works, 105 Service Drive, Yorktown, VA 23692. | https://msc.fema.gov/portal/advanceSearch. | Dec. 22, 2020 | 510182
Wyoming: Teton | Unincorporated areas of Teton County (19-08-1023P). | The Honorable Natalia Macker, Chair, Teton County Board of Commissioners, P.O. Box 3594, Jackson, WY 83001. | Teton County Public Works Department, 320 South King Street, Jackson, WY 83001. | https://msc.fema.gov/portal/advanceSearch. | Dec. 3, 2020 | 560094

[FR Doc. 2020-20347 Filed 9-15-20; 8:45 am]

BILLING CODE 9110-12-P